ENVIRONMENTAL PROTECTION AGENCY

[ER-FRL-8988-8]

Environmental Impacts Statements; Notice of Availability

Responsible Agency: Office of Federal Activities, General Information (202) 564-1399 or http://www.epa.gov/compliance/nepa/.

Weekly receipt of Environmental Impact Statements.

Filed 03/01/2010 through 03/05/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100062, Final EIS, USFWS, AK, Yukon Flats National Wildlife Refuge Project, Proposed Federal and Public Land Exchange, Right-of-Way Grant, Anchorage, AK, Wait Period Ends: 04/12/2010, Contact: Laura Greffenius 907-786-3872.

EIS No. 20100063, Draft EIS, USFS, NE, Allotment Management Planning in the McKelvie Geographic Area Project, Livestock Grazing on 21 Allotments, Bessey Ranger District, Samuel R. McKelvie National Forest, Cherry County, NE, Comment Period Ends: 04/26/2010, Contact: Mark A. Lane 308-432-0328.

EIS No. 20100064, Final EIS, USFS, CA, Freds Fire Reforestation Project, Implementation, EL Dorado National Forest, Placerville and Pacific Ranger Districts, El Dorado County, CA, Wait Period Ends: 04/12/2010, Contact: Robert Carroll 530-647-5386.

EIS No. 20100065, Draft EIS, USFWS, CA, San Diego County Water Authority Natural Community Conservation Plan/Habitat Conservation Plan, Issuing of an Incidental Take Permit, San Diego and Riverside Counties, CA, Comment Period Ends: 06/10/2010, Contact: Karen Goebel 760-431-9440.

EIS No. 20100066, Final EIS, FHWA, FL, Interstate 395 (I-395) Development and Environment Study Project, From I-95 to West Channel Bridges of the MacArthur Causeway at Biscayne Bay, City of Miami, Miami-Dade County, FL, Wait Period Ends: 04/12/2010, Contact: Linda K. Anderson 850-942-9650 Ext. 3053.

EIS No. 20100067, Draft EIS, TVA, TN, Douglas and Nolichucky Tributary Reservoirs Land Management Plan, Implementation, Cocke, Greene, Hamblen, Jefferson and Sevier Counties, TN, Comment Period Ends: 04/26/2010, Contact: Amy Henry 865-632-4045.

EIS No. 20100068, Final EIS, TVA, 00, Northeastern Tributary Reservoirs Land Management Plan, Implementation, Beaver Creek, Clear Creek, Boone, Fort Patrick Henry, South Holston, Watauga, and Wilbur Reservoirs, Carter, Johnson, Sullivan, and Washington Counties, TN and Washington County, VA, Wait Period Ends: 04/12/2010, Contact: Amy Henry 865-632-4045.

EIS No. 20100069, Draft EIS, BLM, WY, Buckskin Mine Hay Creek II Project, Coal Lease Application WYW-172684, Wyoming Powder River Basin, Campbell County, WY, Comment Period Ends: 05/10/2010, Contact: Teresa Johnson 307-361-7510.

EIS No. 20100070, Final EIS, USFS, OR, Upper Beaver Creek Vegetation Management Project, Proposes to Implement Multiple Resource Management Actions, Pauline Ranger District, Ochoco National Forest, Crook County, OR, Wait Period Ends: 04/12/2010, Contact: Janis Bouma 541-477-6902.

EIS No. 20100071, Draft EIS, FERC, ID, Swan Falls Hydroelectric Project, Application for a New License for the 25-megawatt Hydroelectric Facility (FERC Project No. 503-048), Snake River, Ada and Owyhee Counties, ID, Comment Period Ends: 04/26/2010, Contact: Julia Bovey 1-866-208-3372.

EIS No. 20100072, Draft EIS, NPS, NC, Cape Hatteras National Seashore Off-Road Vehicle Management Plan, Implementation, NC, Comment Period Ends: 05/11/2010, Contact: Mike Murray 252-473-2111 Ext 148.

EIS No. 20100073, Draft EIS, USA, AK, Resumption of Year-Round Firing Opportunities at Fort Richardson, Proposal to Strengthen Unit Preparedness and Improve Soldier and Family Quality of Life by Maximizing Live-Fire Training, Fort Richardson, AK, Comment Period Ends: 05/10/2010, Contact: Robert Hall 907-384-2546.

Amended Notices

EIS No. 20100050, Draft EIS, BLM, CA, Stirling Energy Systems (SES) Solar 2 Project, Construct and Operate, Electric-Generating Facility, Imperial Valley, Imperial County, CA, Comment Period Ends: 05/26/2010, Contact: Erin Dreyfuss 916-978-4642. Revision to FR Notice Published 02/26/2010: Comment Period will end on 05/26/2010.

EIS No. 20100051, Draft EIS, USFS, UT, South Unit Oil and Gas Development Project, Master Development Plan, Implementation, Duchesne/Roosevelt Ranger District, Ashley National Forest, Duchesne County, UT, Comment Period Ends: 04/26/2010, Contact: David Herron 435-781-5218. Revision to FR Notice Published 02/26/2010: Correction to Comment Period from 04/12/2010 to 04/26/2010.

EIS No. 20100054, Draft EIS, NASA, VA, Wallops Flight Facility, Shoreline Restoration and Infrastructure Protection Program, Implementation, Wallops Island, VA, Comment Period Ends: 04/12/2010, Contact: Joshua A. Bundick 757-824-2319. Revision to FR Notice Published 02/26/2010: Correction to Document Agency from NOAA to NASA.

Dated: March 9, 2010.
Robert W. Hargrove,
Director, NEPA Compliance Division, Office of Federal Activities.

[FR Doc. 2010-5440 Filed 3-11-10; 8:45 am]

BILLING CODE 6560-50-P